DEPARTMENT OF JUSTICE

National Institute of Corrections

Advisory Board Meeting

Time and Date: 8 a.m. to 4:30 p.m. on Monday, June 27, 2011; 8 a.m. to 4:30 p.m. on Tuesday, June 28, 2011.

Place: National Corrections Academy, 11900 East Cornell Avenue, Aurora, CO 80014, 1 (303) 338-6600.

Matters To Be Considered: Director's report; Discussion on NIC Board Hearings; Federal Partners Reports; Presentations and Demonstration by Academy Staff and Information Center Staff; Reopening Ceremony of the National Corrections Academy.

Contact Person for More Information: Thomas Beauclair, Deputy Director, 202-307-3106, ext. 44254.

Morris L. Thigpen,
Director.

[FR Doc. 2011-12818 Filed 5-25-11; 8:45 am]

BILLING CODE 4410-36-M